DEPARTMENT OF COMMERCE

National Telecommunications and Information Administration

Docket No. 0811241510-81511-01

Privacy Act of 1974; System of Records

AGENCY: National Telecommunications and Information Administration (NTIA), U.S. Department of Commerce

ACTION: Notice of Amendment of Privacy Act System of Records: COMMERCE/NTIA-1, Applications Related to Coupons for Digital-to-Analog Converter Boxes.

SUMMARY: In accordance with the Privacy Act, 5 U.S.C. § 552a(e)(4) and (11), the Department of Commerce is issuing a notice of its intent to amend the system of records entitled COMMERCE/NTIA-1, “Applications Related to Coupons for Digital-to-Analog Converter Boxes.” We invite public comment on the proposed change in this publication.

DATES: To be considered, written comments must be submitted on or before January 2, 2009. Unless comments are received, the new system of records will become effective as proposed on the date of publication of a subsequent notice in the Federal Register.

ADDRESSES: Comments may be mailed to Stacy Cheney, Attorney-Advisor, Office of the Chief Counsel, National Telecommunications and Information Administration, Room 4713, 1401 Constitution Avenue, N.W., Washington, DC 20231. Paper submissions should also include a three and one-half inch computer diskette or compact disc (CD) using an electronic version of the comments in HTML, ASCII, Word, WordPerfect, or Portable Document Format (PDF) format. Diskettes or CDs should be labeled with the name and organizational affiliation of the filer, and the name of the word processing program (and version) used to create the document. In the alternative, comments may be submitted electronically to the following electronic mail address: sor-comments@ntia.doc.gov. Comments submitted via electronic mail also should be submitted in one or more of the formats specified above. Comments will be posted on NTIA's website at http://www.ntia.doc.gov.

SUPPLEMENTARY INFORMATION: NTIA has amended the applications related to coupons for the Digital-to-Analog Converter Box program to allow for the collection of additional personally identifiable information, namely the collection of the name of the nursing home facility. 47 CFR. Part 301; see also 73 Fed. Reg. 54,325 (September 19, 2008).

In addition, NTIA has amended the applications for those individuals who provide post office boxes as their mailing address to allow for the collection of the physical address. NTIA will only use this information for identification, verification and tracking purposes for the Coupon Program. Similar information is routinely collected by governmental agencies to verify residency.

COMMERCE/NTIA-1

System Name: *

Security Classification: *

System Locations: *

Categories of Individuals Covered by the System: Delete “.” after “Households” and insert “residents of nursing homes, intermediate care facilities, and assisted living facilities, and those individuals utilizing post office box addresses.”

Categories of Records in the System—The following information is collected and/or maintained by NTIA and/or its Contractor: After “pay television.” insert “In addition to the above four (4) items, nursing home residents will be requested to provide the name of the nursing home. For those individuals utilizing post office boxes, NTIA will request the physical home address.”

Authorities for Maintenance of the System: *

Purposes(s): Insert after “statute.” “The information is being collected from requesting individuals living in nursing home facilities and those utilizing post office boxes in order to provide the coupons to otherwise eligible individuals. This information is pertinent to the success of the Digital-to-Analog Converter Box program as required by the Act.”

Routine Uses of Records Maintained in the System, Including Categories of Users and the Purpose of Such Uses: *

Policies and Practices for Storing, Retrieving, Accessing, Retaining and Disposing of Records in the System: *

System Manager(s) and Addresses: *

Notification Procedure: *

Record Access Procedures: *

Contesting Record Procedures: *

Record Source Categories: *

Exemption Claims for System: *

* Indicates that there were no changes to that paragraph of the notice.

Dated: November 26, 2008.
Brenda Dolan,
Freedom of Information/Privacy Act Officer, U.S. Department of Commerce.

[FR Doc. E8-28633 Filed 12-1-08; 8:45 am]

BILLING CODE 3510-60-S